DEPARTMENT OF THE INTERIOR

Fish and Wildlife Service

[FWS-HQ-MB-2019-N135; FF09M21200-190-FXMB1231099BPP0; OMB Control Number 1018-0022]

Agency Information Collection Activities; Federal Fish and Wildlife Permit Applications and Reports—Migratory Birds

AGENCY: Fish and Wildlife Service, Interior.

ACTION: Notice of information collection; request for comment.

SUMMARY: In accordance with the Paperwork Reduction Act of 1995, we, the U.S. Fish and Wildlife Service (Service, we), are proposing to renew an existing information collection with revisions.

DATES: Interested persons are invited to submit comments on or before December 27, 2019.

ADDRESSES: Send your comments on the information collection request by mail to the Service Information Collection Clearance Officer, U.S. Fish and Wildlife Service, MS: JAO/1N PRB/PERMA, 5275 Leesburg Pike, Falls Church, VA 22041-3803 (mail); or by email to Info_Coll@fws.gov. Please reference OMB Control Number 1018-0022 in the subject line of your comments.

FOR FURTHER INFORMATION CONTACT: To request additional information about this ICR, contact Madonna L. Baucum, Service Information Collection Clearance Officer, by email at Info_Coll@fws.gov, or by telephone at (703) 358-2503.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on the proposed information collection request (ICR) that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: Our Regional Migratory Bird Permit Offices use information that we collect on permit applications to determine the eligibility of applicants for permits requested in accordance with the criteria in various Federal wildlife conservation laws and international treaties, including:

(1) Migratory Bird Treaty Act (16 U.S.C. 703 et seq.).

(2) Lacey Act (18 U.S.C. 42; 16 U.S.C. 3371 et seq.).

(3) Bald and Golden Eagle Protection Act (16 U.S.C. 668 et seq.).

Service regulations implementing these statutes and treaties are in chapter I, subchapter B of title 50 of the Code of Federal Regulations (CFR). These regulations stipulate general and specific requirements that, when met, allow us to issue permits to authorize activities that are otherwise prohibited.

With the exception of Forms 3-186 and 3-186a, all Service permit applications are in the 3-200 and 3-202 series of forms, each tailored to a specific activity based on the requirements for specific types of permits. For this revision, we combined Forms 3-200-10c and 3-200-10d into one form (3-200-10c) to reduce the number of application forms and help streamline the application process. Since both forms dealt with possession for education purposes, and asked virtually the same questions of the applicant, there was no need to have separate forms. We collect standard identifier information for all permits. The information that we collect on applications and reports is the minimum necessary for us to determine if the applicant meets/continues to meet issuance requirements for the particular activity.

Proposed Revisions to This Information Collection

With this submission, we are proposing the following revisions to the existing information collection:

Transfer of Eagle Requirements to OMB Control No. 1018-0167

Information collection requirements associated with the Federal fish and wildlife permit applications and reports for both migratory birds and eagles are currently approved under a single OMB control number, 1018-0022, “Federal Fish and Wildlife Permit Applications and Reports—Migratory Birds and Eagles; 50 CFR 10, 13, 21, 22.” With this submission to OMB, we are proposing to reinstate OMB Control Number 1018-0167, “Eagle Take Permits and Fees, 50 CFR 22” in order transfer the eagle requirements back in to a separate information collection. This transfer will facilitate easier management of the information collection requirements associated with eagles. We are not proposing any changes to the currently approved eagle requirements. This request will simply transfer the information collection requirements associated with eagles back in to their original collection under OMB Control Number 1018-0167.

ePermits Initiative

The Service will request OMB approval to automate certain migratory bird permit forms. The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including personal computers (PCs), tablets, and smartphones. It will also link the permit applicant to the Pay.gov system for payment of the associated permit application fee.

We anticipate including the following Service forms in the ePermits initiative: 3-186, 3-186a, 3-200-6 through 3-200-9, 3-200-10a through 3-200-10f, 3-200-12 through 3-200-13, 3-200-67, 3-200-79, 3-200-81, 3-202-1 through 3-202-10, 3-202-12, and 3-202-17.

Falconry Program Requirements

Additionally, we will request are proposing to incorporate the information collection requirements associated with the Service's falconry program into this collection (OMB Control No. 1018-0022). Beginning in 2014, the Service passed the authority to issue permits for the practice of falconry to individual States (50 CFR 21.29; 78 FR 72830, December 4, 2013). As part of this change in authority, we required States to maintain databases of falconers authorized to conduct falconry in their States and required falconers to report transfers of falconry birds using the paper version of FWS Form 3-186A. We require each State that maintains its own database to ensure that it is compatible with the Service's database. To date, 47 States utilize the system provided by the Service. The Service's database continues to track take of birds from the wild by falconers and to maintain records of persons permitted by the States to practice falconry, as required by 50 CFR 21.29(k)(1).

The primary purpose of this database is to allow the Service to track take of raptors from the wild by falconers to ensure take does not exceed levels established in the Service's 2008 environmental assessment of the impacts of the falconry regulations on wild raptor populations. The ability to track and document the effects of the wild take of raptors by falconers remains a responsibility of the Service. The database also: (1) Provides falconers and States with the information necessary to allow the efficient movement of falconers and raptors held under falconry permits among States; and (2) ensures that falconers can formally document their experience regardless of the States in which they have resided, which is required to advance from the apprentice—to general—to master-class permit levels.

In 2018, the Service requested and received OMB approval under the Department of the Interior Fast Track generic clearance (OMB Control No. 1090-0011) to conduct usability testing of the revised/repaired application and database functionality. The revised/repairs falconry database (database) replaced a legacy system based on outdated programming. It reduced the cost to the government by eliminating the need for Service personnel to enter data for each new falconer, and simply required the entry of data for State administrators. In addition, this new database enhances the user experience by allowing them to enter data from any device that has internet access, including PCs, tablets, and smart phones. The usability testing helped the Service to address problems and recommendations prior to the database going live. We are now ready to request full OMB approval of the falconry database and the information collection requirements associated with the falconry program.

Goose Requirements

OMB previously approved the information collection requirements associated with the management of geese under two OMB control numbers: 1018-0103, “Conservation Order for Light Geese, 50 CFR 21.60” (exp. 03/31/2021) and 1018-0133, “Control and Management of Resident Canada Geese, 50 CFR 20.21, 21.49, 21.50, 21.51, 21.52 and 21.61” (exp. 06/30/2022). Since both collections follow the requirements of the Migratory Bird Treaty Act, we are proposing to transfer the information collections into 1018-0022. We are not proposing any changes to the currently approved requirements for either collection and are merely transferring the requirements into 1018-0022. The annual burden associated with 1018-0103 is 21,577 responses, 7,318 burden hours, and $78,000 non-hour cost burden for overhead costs (materials, printing, postage, etc.). The annual burden associated with 1018-0133 is 8,698 responses, 3,360 burden hours, and zero non-hour burden costs. There are no forms associated with either of these two collections.

Title of Collection: Federal Fish and Wildlife Permit Applications and Reports—Migratory Birds; 50 CFR 10, 13, 21.

OMB Control Number: 1018-0022.

Form Number: FWS Forms 3-186, 3-186a, 3-200-6 through 3-200-9, 3-200-10a through 3-200-10f, 3-200-12 through 3-200-13, 3-200-67, 3-200-79, 3-200-81, 3-202-1 through 3-202-10, 3-202-12, and 3-202-17.

Type of Review: Revision of an existing information collection.

Respondents/Affected Public: Individuals; zoological parks; museums; universities; scientists; taxidermists; businesses; utilities; and Federal, State, local, and Tribal governments.

Total Estimated Number of Annual Respondents: 56,984.

Total Estimated Number of Annual Responses: 56,984.

Estimated Completion Time per Response: Varies from 15 minutes to 240 hours, depending on activity.

Total Estimated Number of Annual Burden Hours: 213,365.

Respondent's Obligation: Required to obtain or retain a benefit.

Frequency of Collection: On occasion for applications; annually or on occasion for reports.

Total Estimated Annual Nonhour Burden Cost: $571,975 (primarily associated with application processing fees).

An agency may not conduct or sponsor and a person is not required to respond to a collection of information unless it displays a currently valid OMB control number.

The authority for this action is the Paperwork Reduction Act of 1995 (44 U.S.C. 3501 et seq.).

Dated: October 23, 2019.
Madonna L. Baucum,
Information Collection Clearance Officer, U.S. Fish and Wildlife Service.

[FR Doc. 2019-23459 Filed 10-25-19; 8:45 am]

BILLING CODE 4333-15-P